DEPARTMENT OF ENERGY

Federal Energy Regulatory Commission

[Project No. 12478-003]

Gibson Dam Hydro Company, LLC; Notice Soliciting Scoping Comments

DATES: October 28, 2009.

Take notice that the following hydroelectric application has been filed with the Commission and is available for public inspection.

a. Type of Application: Major Project—Existing Dam.

b. Project No.: P-12478-003.

c. Date filed: August 28, 2009.

d. Applicant: Gibson Dam Hydro Company, LLC.

e. Name of Project: Gibson Dam Hydroelectric Project.

f. Location: On the Sun River, near the towns of Augusta and Fairfield, Lewis and Clark and Teton Counties, Montana. The project would occupy 95.34 acres of Federal land administered by the U. S. Forest Service and 19.39 acres of Federal land administered by the U. S. Bureau of Land Management for a total of 114.73 acres of Federal land.

g. Filed Pursuant to: Federal Power Act 16 USC 791 (a)-825(r).

h. Applicant Contact: Steve C. Marmon and Thom A. Fischer, Whitewater Engineering Corporation, 3633 Alderwood Ave., Bellingham, WA 98225, (360) 738-9999.

i. FERC Contact: Matt Cutlip, (503) 552-2762 or matt.cutlip@ferc.gov.

j. Deadline for filing scoping comments: January 26, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at: FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The proposed project would utilize the existing facilities of the U.S. Bureau of Reclamation's Gibson dam including the reservoir, existing valve house, and two existing dam outlet pipes; and would consist of the following new facilities: (1) Two new 72-inch-diameter penstocks extending 40 feet from the existing outlet pipes to the powerhouse; (2) a new powerhouse located near the toe of the dam with four turbine/generating units with total installed capacity of 15 megawatts; (3) a new 25.8-mile, 34.5/69 kV overhead and underground transmission line from the powerhouse to an interconnection point with Sun River Electric Cooperative, Inc.'s existing 69 kV transmission line at Jackson's Corner; (4) a new 34.5/69 kV step-up substation; (5) a new maintenance building located approximately 1,400 feet downstream of the powerhouse adjacent to existing Gibson Dam operations facilities; and (6) appurtenant facilities. The average annual generation is estimated to be 40 gigawatt-hours.

m. A copy of the application is available for review at the Commission in the Public Reference Room or may be viewed on the Commission's Web site at: http://www.ferc.gov using the “eLibrary” link. Enter the docket number excluding the last three digits in the docket number field to addess the document. For assistance, contact FERC Online Support. A copy is available for inspection and reproduction at the address in Item H above.

n. You may also register online at: http://www.ferc.gov/docs-filing/esubscription.asp to be notified via e-mail of new filings and issuances related to this or other pending projects. For assistance, contact FERC Online Support.

o. Scoping Process

Commission staff intend to prepare a draft and final Environmental Assessment (EA) for the Gibson Dam Hydroelectric Project in accordance with the National Environmental Policy Act. The EA will consider both site-specific and cumulative environmental impacts and reasonable alternatives to the proposed action.

The project as proposed in the license application differs from Gibson Dam Hydro Company's proposals described in Scoping Document 1 and Scoping Document 2, filed on March 9, 2006, and February 8, 2007, respectively. Therefore, to support and assist our environmental review, we are conducting additional paper scoping on the current proposal to ensure that all pertinent issues and alternatives are identified and analyzed, and that the EA is thorough and balanced. Commission staff does not propose to conduct any on-site scoping meetings at this time. Instead, we are soliciting comments, recommendations, and information, on the Scoping Document (SD) issued on October 28, 2009.

Copies of the SD outlining the subject areas to be addressed in the EA were distributed to the parties on the Commission's mailing list and the applicant's distribution list. Copies of the SD may be viewed on the Web at: http://www.ferc.gov using the “eLibrary” link. Enter the docket number excluding the last three digits in the docket number field to access the document. For assistance, call 1-866-208-3676 or for TTY, (202) 502-8659.

Kimberly D. Bose,
Secretary.

[FR Doc. E9-26473 Filed 11-3-09; 8:45 am]

BILLING CODE 6717-01-P